DEPARTMENT OF COMMERCE

National Oceanic and Atmospheric Administration

50 CFR Part 679

[I.D. 062602E]

RIN 0648-AP71

Fisheries of the Exclusive Economic Zone off Alaska; Amendment 69 To Allow American Fisheries Act Inshore Pollock Cooperatives To Contract With Non-Member Vessels

AGENCY: National Marine Fisheries Service (NMFS), National Oceanic and Atmospheric Administration (NOAA), Commerce.

ACTION: Notice of Availability (NOA); request for comments.

SUMMARY: The North Pacific Fishery Management Council (Council) has submitted Amendment 69 to the Fishery Management Plan for the Groundfish Fishery of the Bering Sea and Aleutian Islands Area (FMP). This amendment would allow an American Fisheries Act inshore pollock cooperative to contract with a non-member catcher vessel to harvest a portion of the cooperative’s annual pollock allocation. The purpose of this action is to provide a means by which the members of a cooperative may harvest their entire pollock allocation in a safe and cost-effective manner.

DATES: Comments on Amendment 69 must be received at the following address by September 3, 2002.

ADDRESSES: Comments on Amendment 69 may be mailed to Sue Salveson, Assistant Regional Administrator, Sustainable Fisheries Division, Alaska Region, NMFS, P.O. Box 21668, Juneau, AK 99802-1668, Attn: Lori Gravel-Durall. Hand delivery or courier delivery of comments may be sent to the Federal Building, 709 West 9th St., Room 453, Juneau, AK, 99801. Copies of Amendment 69 and the Regulatory Impact Review/Initial Regulatory Flexibility Analysis (RIR/IRFA) prepared for this action are available from NMFS at the above address, or by calling the Alaska Region, NMFS, at (907) 586-7228.

FOR FURTHER INFORMATION CONTACT: Kent Lind, (907) 586-7228 or kent.lind@noaa.gov.

SUPPLEMENTARY INFORMATION: The Magnuson-Stevens Fishery Conservation and Management Act (Magnuson-Stevens Act) requires that each regional fishery management council submit any FMP or FMP amendment it prepares to NMFS for review and approval, disapproval, or partial approval. The Magnuson-Stevens Act also requires that NMFS, upon receiving an FMP, immediately publish a notice in the Federal Register that the FMP or amendment is available for public review and comment.

The American Fisheries Act (AFA) established a system of inshore pollock cooperatives under which the owners of catcher vessels that deliver to a particular processor may form a cooperative and receive an exclusive allocation of Bering Sea and Aleutian Islands Management Area (BSAI) pollock. Subparagraph 210(b)(1)(B) of the AFA specifies that only the member vessels of a cooperative may harvest the cooperative's annual pollock allocation.

In 2000, several inshore catcher vessel owners petitioned the Council to provide cooperatives with greater flexibility to contract with non-member vessels. They argued that members of inshore cooperatives need greater flexibility to (1) increase efficiency and provide vessel owners with a more functional market for leasing of individual pollock allocations, (2) ensure that a cooperative is able to harvest its entire allocation in the event of vessel breakdowns or other unanticipated emergencies, and (3) improve safety by providing greater flexibility for larger vessels to harvest cooperative allocations during hazardous winter months and when Steller sea lion conservation measures require that fishing be done further offshore--outside of Steller sea lion critical habitat.

The Council concurred and adopted Amendment 69 in October 2000. This amendment would revise the inshore cooperative structure to allow an inshore cooperative to contract with a non-member AFA inshore catcher vessel that is a member of another inshore cooperative to harvest a portion of the cooperative’s allocation. However, this amendment would not change cooperative memberships or authorize non-AFA vessels to harvest BSAI pollock.

Subsection 213(c) of the AFA provides the Council with the authority to recommend measures that supersede certain aspects of the AFA. Subsection 213(c) states:

“The North Pacific Council may recommend and the Secretary may approve conservation and management measures in accordance with the Magnuson-Stevens Act-that supersede the provisions of this title, except for Sections 206 and 208 for conservation or to mitigate adverse effects in fisheries or on owners of fewer than three vessels in the directed pollock fishery provided such measures take into account all factors affecting the fisheries and are imposed fairly and equitably to the extent practicable among and within the sectors in the directed pollock fishery.”

Amendment 69 would supersede inshore cooperative restrictions set out in paragraphs 210(b)(1)(B) and 210(b)(5) of the AFA.

Public comments are being solicited on the amendment through the end of the comment period stated in this NOA. A proposed rule that would implement the amendment may be published in the Federal Register for public comment following NMFS’s evaluation under the Magnuson-Stevens Act procedures. Public comments on the proposed rule must be received by the end of the comment period on the amendment to be considered in the approval/disapproval decision on the amendment, whether specifically directed to the amendment or the proposed rule. Comments received after that date will not be considered in the approval/disapproval decision on the amendment. To be considered in the approval/disapproval decision, comments must be received by the close of business on the last day of the comment period specified in this NOA; that does not mean postmarked or otherwise transmitted by that date.

Dated: June 28, 2002.
Dean Swanson,
Acting Director, Office of Sustainable Fisheries, National Marine Fisheries Service.

[FR Doc. 02-16812 Filed 7-3-02; 8:45 am]

BILLING CODE 3510-22-S